DEPARTMENT OF JUSTICE

Antitrust Division

Notice Pursuant to the National Cooperative Research and Production Act of 1993—MLCommons Association

Notice is hereby given that, on February 26, 2025, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, SAS Multi Meta Multiverse, Vallauris, FRENCH REPUBLIC; Secludy Inc., San Francisco, CA; Robert L'Heureux (individual member), Livermore, CA; Ishmail Guzel (individual member), Ankara, REPUBLIC OF TURKEY; and Xuanli He (individual member), London, UNITED KINGDOM, have been added as parties to this venture.

Also, EDGECORTIX INC., Singapore, REPUBLIC OF SINGAPORE; Calvin Risk, Kloten, SWISS CONFEDERATION; and OMOIKANE A.I. Ltd., London, UNITED KINGDOM, have withdrawn as parties to this venture.

No other changes have been made in either the membership or planned activity of the group research project. Membership in this group research project remains open and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on December 2, 2024. A notice was published in the Federal Register pursuant to section 6(b) of the Act on March 7, 2025 (90 FR 11550).

Suzanne Morris,
Deputy Director Civil Enforcement Operations, Antitrust Division.

[FR Doc. 2025-04432 Filed 3-17-25; 8:45 am]

BILLING CODE P